DEPARTMENT OF COMMERCE

International Trade Administration

[A-570-888]

Floor-Standing, Metal Top Ironing Tables and Certain Parts Thereof From the People's Republic of China: Extension of Time Limit for Preliminary Results of Antidumping Duty Administrative Review

AGENCY: Import Administration, International Trade Administration, Department of Commerce

DATES: Effective Date: April 28, 2010.

FOR FURTHER INFORMATION CONTACT: Michael J. Heaney or Robert James, Import Administration, International Trade Administration, U.S. Department of Commerce, 14th Street and Constitution Avenue, NW., Washington DC 20230; telephone: (202) 482-4475 and (202) 482-0649, respectively.

SUPPLEMENTARY INFORMATION:

Background

At the request of interested parties, on September 22, 2009, the Department published in the Federal Register a notice of initiation of this antidumping duty administrative review. See Initiation of Antidumping and Countervailing Duty Administrative Reviews and Request for Revocation in Part, 74 FR 48224 (September 22, 2009). The review covers the period August 1, 2007, through July 31, 2008. The preliminary results for this administrative review are currently due no later than May 10, 2010.

Extension of Time Limits for Preliminary Results

Section 751(a)(3)(A) of the Tariff Act of 1930, as amended (the Act), requires the Department to complete the preliminary results of an administrative review within 245 days after the last day of the anniversary month of an order for which a review is requested. In this case, we note the deadline for completion of this administrative review has been extended by an additional seven days because of hazardous weather. See February 12, 2010 Memorandum, “Tolling of Administrative Deadlines As a Result of the Government Closure During the Recent Snowstorm.” However, if it is not practicable to complete the review within this time period, section 751(a)(3)(A) of the Act allows the Department to extend the 245 day time period for the preliminary results up to a maximum of 365 days.

The Department has determined it is not practicable to complete this review within the statutory time limit because we require additional time to gather and analyze information relating to both Foshan Shunde's and Since Hardware's factors of production, and to verify Foshan Shunde's and Since Hardware's questionnaire responses. Accordingly, the Department is extending the time limits for completion of the preliminary results of this administrative review until no later than September 7, 2010, which is 365 days from the last day of the anniversary month of this order, plus the seven-day extension for hazardous weather. We intend to issue the final results in this review no later than 120 days after publication of the preliminary results.

This notice is issued and published in accordance with sections 751(a)(3)(A) and 777(i) of the Act.

Dated: February 21, 2010.
John Andersen,
Acting Deputy Assistant Secretary for Antidumping and Countervailing Duty Operations.

[FR Doc. 2010-9849 Filed 4-27-10; 8:45 am]

BILLING CODE 3510-DS-P